DEPARTMENT OF TRANSPORTATION

Federal Aviation Administration

Seventeenth Meeting: EUROCAE WG-72: RTCA Special Committee 216: Aeronautical Systems Security (Joint Meeting)

AGENCY: Federal Aviation Administration (FAA), DOT.

ACTION: Notice of EUROCAE WG-72: RTCA Special Committee 216: Aeronautical Systems Security (Joint Meeting).

SUMMARY: The FAA is issuing this notice to advise the public of a meeting of EUROCAE WG-72: RTCA Special Committee 216: Aeronautical Systems Security (Joint Meeting).

DATES: The meeting will be held September 7-9, 2011 starting at 9 a.m. to 5 p.m.

ADDRESSES: The meeting will be held at RTCA, 1150 18th Street, NW., Suite 910, Washington, DC 20036.

FOR FURTHER INFORMATION CONTACT: RTCA Secretariat, 1150 18th Street, NW., Suite 910, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a EUROCAE WG-72: RTCA Special Committee 216: Aeronautical Systems Security (Joint Meeting) meeting.

Agenda

Tuesday, September 6th (Pre-Meeting Events)

• 9 a.m. to 12 p.m. Optional—DHS National Cybersecurity and Communications Integration Center (NCCIC) Tour. Participants should coordinate directly with Kevin Harnett with any questions.

• The NCCIC Tour will be conducted in Arlington VA. Folks need to arrange for their transportation (can be done via Metro). Directions (attached to email distribution of this agenda).

• Contact info will be need in advance. For US citizens, DHS needs name and last 4 of your SSN. Please provide this information by Aug 12th. For non-US citizens an iSMS form is required (attached) and DHS would like this form by Aug 12 (3 weeks before the visit). Secret Clearance is not needed; The tour will be unclassified. Please send information to the DHS Point of Contacts: Holly Taing(Holly.Taing@associates.dhs.gov) and Mr Amit Kholsa (Amit.Khosla@dhs.gov).

• You will need to be at DHS for security check-in between 9:45-10 a.m. 30 minutes will be an NCCIC Briefing and 45 minutes will be the NCCIC Tour to be held from 10:30 a.m.-12 p.m.

• DOT Point of Contact: Kevin Harnett (Kevin.Harnett@dot.gov), U.S. Department of Transportation/Volpe Center, Cyber Security Project Manager, 617-699-7086 (cell), 617-494-2604 (work).

• 1 p.m.-5 p.m. (Subgroup Meetings).

• Subgroup 2 (SG2)

• Action Item Status Review.

• Schedule Review.

• Develop Breakout Meeting Schedule.

• Review any parts of ED203 that are not finished.

• Review any new portions of the document.

• Subgroup 4 (SG4).

• Action Item Status Review.

• Schedule Review.

• Develop Breakout Meeting Schedule.

• Review new portions of documentation.

Wednesday September 7, 2011 (Day 1)

• 9 a.m.-11 a.m.—Split Plenary.

• SC-216—approval of the Summary the 16th meeting held May 10-13. 2011.

• Report on the PMC/ICC update.

• RTCA Specific Publication Progress and Update.

• WG—72.

• Introduction.

• Election of Secretary/Report about publications and relations.

• Document Discussions/WG-72 specific concerns.

• Status TC377/WG1 cooperation.

• 11:15 a.m.-12 p.m., DHS Briefing on the Cybersecurity Control System Security (CSSP) Program.

• 1 p.m.—Joint Plenary Meeting.

• Reports on editorial status of document(ED-202A/ED-203/ED-204).

• Status of liaisons-ICAO.

• TC377.

• RTCA-SG4 concerns.

• PMC Update.

• SC-205, S-18.

• Subgroup Meetings/Breakouts (TBA—5:00 p.m.).

Thursday, September 8, 2011 (9 a.m.- 5 p.m.).

• Subgroup Meetings/Break-outs.

Friday, September 9, 2011.

• 9 a.m.-12 p.m. Subgroup Meetings/Break-outs.

• 1:15 p.m.- 4 p.m.—Joint Plenary.

• Reports on Break-outs.

• Action Items Review and Coordination.

• Confirm Dates, Location, and Agenda for Next Meeting(s).

• Any Other Business.

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 9, 2011.
Robert L. Bostiga,
RTCA Advisory Committee.

[FR Doc. 2011-20747 Filed 8-15-11; 8:45 am]

BILLING CODE 4910-13-P